ENVIRONMENTAL PROTECTION AGENCY

[ER-FRL-6643-4]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in the Federal Register dated April 4, 2003 (68 FR 16511).

Draft EISs

ERP No. D-AFS-F65040-WI Rating EC2, Programmatic EIS—Cheguamegon-Nicolet National Forests Revised Land and Resource Management Plan, Implementation, Ashland, Bayfield, Florence, Forest, Langlade, Oconto, Oneida, Price, Sawyer, Taylor and Vilas Counties, CA.

Summary: EPA expressed environmental concerns regarding lack of management strategies for watershed protections, problem species, alternative descriptions, and unauthorized ATV traffic.

ERP No. D-AFS-J65381-SD Rating EC2, Sioux Ranger District Oil and Gas Leasing Project, Implementation, Sioux Ranger District, Custer National Forest, Harding County, SD.

Summary: EPA expressed environmental concerns with potential adverse impacts to air quality and cultural resources. The final EIS should include information on potential air quality impacts from the fire flood oil recovery method and consideration of both direct and indirect project impacts to traditional cultural properties.

ERP No. D-AFS-J65386-MT Rating EC2, Programmatic EIS—Winter Motorized Recreation Amendment 24, Proposal to Change the Flathead National Land and Resource Management Plan, Flathead National Forest, Flathead, Lake and Lincoln Counties, MT.

Summary: EPA expressed environmental concerns with potential impacts to air quality and human health in areas of concentrated use. Also, EPA expressed environmental concerns with the preferred alternative which potentially reduces protection to grizzly bear security.

ERP No. DC-AFS-L65155-00 Rating EC2, Northern Spotted Owl Management Plans, Removal or Modification of the Survey and Manage Mitigation Measure Standards and Guidelines in the Final Supplemental EIS (1994) and Final Supplement EIS (2002) for Amendments, Northwest Forest Plan, WA, CA and OR.

Summary: EPA expressed environmental concerns about the protection of high risk species. An alternative limiting Survey and Manage requirements to a smaller number of species at high risk should be considered. More detail is needed on implementing special species programs, including a detailed implementation and proposed mitigation plan and for species removed from Survey and Manage.

Final EISs

ERP No. F-AFS-F65037-MI, Interior Wetlands Project, Timber Harvest, White Pine Trees Pruning, Growth System Adjustment, Wildlife Openings Creation and Maintenance and Transportation System Improvements, Hiawatha National Forest, Eastside Administrative Unit, Chippewa County, MI.

Summary: EPA continues to have no objections to the project, since no major changes have been made. The preferred alternative was also the alternative favored by EPA.

ERP No. F-AFS-J65342-00, Wasatch-Cache National Forest Revised Land and Resource Management Plan, Implementation, several counties, UT and Uinta County, WY.

Summary: EPA has remaining environmental concerns regarding protection of the watershed and ecological values. Implementation of the monitoring plan is critical to assuring that environmental improvements targets are met.

ERP No. F-AFS-K65417-CA, Blue Fire Forest Recovery Project, Proposal to Move the Existing Condition Caused by the Blue Fire of 2001 Towards the Desired Condition, Modoc National Forest, Warner Mountain Ranger District, Lassen and Modoc Counties, CA.

Summary: No formal comment letter was sent to the preparing agency.

ERP No. F-AFS-L65410-ID, Gaylord North Timber Sale Project, Harvesting Timber, Council Ranger District, Payette National Forest, Adam County, ID.

Summary: No formal comment letter was sent to the preparing agency.

ERP No. F-AFS-L65416-ID, Upper Bear Timber Sale Project, Fuel Reduction, Forest Vegetation and Roads Management, Payette National Forest, Council Ranger District, Adams County, ID.

Summary: No formal comment letter was sent to the preparing agency.

ERP No. F-COE-J28021-CO, Rueter-Hess Reservoir Project, Construction and Operation, Proposed Water Supply Reservoir and Off-Stream Dam, U.S. Army COE Section 404 Permit, Endangered Species Act (Section 7) Permit and Right-of-Way Use Permit, Located on Newlin Gulch along Cherry Creek, Town of Parker, Douglas County, CO.

Summary: No formal comment letter was sent to the preparing agency.

ERP No. F-UAF-K11110-CA, Los Angeles Air Force Base Land Conveyance, Construction and Development Project, Transfer Portions of Private Development in Exchange for Construction of New Seismically Stable Facilities, Cities of EL Sequndo and Hawthorne, Los Angeles County, CA.

Summary: No formal comment letter was sent to the preparing agency.

ERP No. FS-AFS-J65353-MT, Threemile Stewardship Project, Additional Information concerning the Potential Effects on the Goshawk Habitat, Ashland Ranger District, Custer National Forest, Powder and Rosebud Counties, MT.

Summary: EPA did not object to the preferred alternative to harvest and thin timber, use prescribed fire, and manage road systems. EPA continues to have environmental concerns with potential project effects to goshawk nest territories, and measures for implementing adequate oversight of the timber contractor during project implementation via stewardship contracting to adequately address environmental and ecological concerns.

ERP No. FS-COE-E36154-FL, Upper St. Johns River Basin and Related Areas, Central and Southern Florida Flood Control Project, Proposed Modifications to Project Features North of the Fellsmere Grade to Preserve and Enhance Floodplain and Aquatic Habitats, Brevard County, FL.

Summary: EPA has no objections to the proposed project modifications to improve water quality.

Dated: August 26, 2003.
Joseph C. Montgomery,
Director, NEPA Compliance Division, Office of Federal Activities.

[FR Doc. 03-22164 Filed 8-28-03; 8:45 am]

BILLING CODE 6560-50-P